DEPARTMENT OF DEFENSE

Office of the Secretary

Announcement of Federal Funding Opportunity

AGENCY: Office of Economic Adjustment, DoD.

ACTION: Notice.

SUMMARY: This notice announces the opportunity to enter into a cooperative agreement with the Office of Economic Adjustment (OEA) for Research and Technical Assistance (RTA) and invites proposals. The OEA is authorized by 10 U.S.C. 2391, to make grants to, or conclude cooperative agreements or enter into contracts with, a State or local government or any private entity to conduct research and provide technical assistance in support of the Defense Economic Adjustment Program, and assist communities, businesses and workers responding to Defense changes under 10 U.S.C. 2391 and Executive Order 12788, as amended. OEA is the Department of Defense's primary source for assisting communities that are adversely impacted by Defense program changes, including base closures or realignments, base expansions, and contract or program cancellations. Awards provided under this announcement support the Defense Economic Adjustment Program by: (1) Providing analysis and dissemination of information; and (2) support to innovative approaches.

DATES: OEA will hold a pre-proposal teleconference on Tuesday, January 27, 2009, at 3 p.m. EST in which all interested respondents are invited to participate. A completed proposal must be received by OEA no later than sixty (60) days after the publication date of this announcement. Any proposal received after this time will be considered non-responsive and the respondent will not be invited to make a formal application for funding. OEA will invite the successful respondent(s) to apply for funding under this announcement following its review of proposals and determination of eligible respondents, which will occur subsequent to the 61st day following publication of this announcement.

ADDRESSES: All interested respondents are to submit a proposal within the advertised solicitation period (sixty (60) days). Proposals may be submitted to OEA by e-mail, hand-delivery, or postal mail. Send submissions to the Director, Office of Economic Adjustment, by mail to 400 Army Navy Drive, Suite 200, Arlington, VA 22202-4704, by facsimile to OEA at (703) 604-5460, or electronically to: rta.submit@wso.whs.mil.

A pre-proposal teleconference will be held on Tuesday, January 27, 2009, at 3 p.m. EST to review the goals and objectives of this funding opportunity and answer questions from interested respondents. For the teleconference number and passcode, interested respondents may contact OEA Office of Economic Adjustment, 400 Army Navy Drive, Suite 200, Arlington, VA 22202-4704; telephone: (703) 604-6020; fax: (703) 604-5843; E-mail: daniel.glasson@wso.whs.mil.

FOR FURTHER INFORMATION CONTACT: Daniel Glasson, (703) 604-6020.

SUPPLEMENTARY INFORMATION: Federal Funding Opportunity Title: Research and Technical Assistance.

Announcement Type: Federal Funding Opportunity (FFO).

Catalog of Federal Domestic Assistance (CFDA) Number: 12.615.

I. Funding Opportunity Description

OEA, a Department of Defense (DoD) Field Activity, is authorized to make grants to, or conclude cooperative agreements or enter into contracts with, state or local governments or any private entity, to conduct research and provide technical assistance in support of its program activities under 10 U.S.C. 2391 and Executive Order 12788, as amended.

1. Description of opportunity—Pursuant to the Research and Technical Assistance program, OEA is soliciting proposals that will result in one or more cooperative agreements to provide economic indicators on a recurring basis to certain Defense-impacted locations engaged in defense economic adjustment. Currently, OEA works with communities/regions experiencing base closure, realignment, and mission growth. Implementation of a community's plan to redevelop surplus property (base closure) or address public requirements associated with mission growth may be impacted by changing economic conditions, including, but not limited to, declining home values, rising unemployment, labor surplus areas, declining tax revenue, and housing/business starts. Specifically, OEA is seeking proposals to provide information to its program customer base on: (1) Adjusted monthly economic data for regions hosting the military installations listed below; and (2) a national baseline for identified economic indicators. This information will be developed with and for the affected communities, and posted on the Internet to further assist OEA's community, state and other customers in the coordination and delivery of adjustment assistance. OEA desires to have the first set of information to the specific communities/regions by Summer 2009, with periodic updates to extend through September 2013.

2. Additional Information—The research and data must be dynamic, in that it will be updated on a periodic basis to reflect current local economic situations across a portfolio of regions. Respondents will be expected to engage the identified communities and provide specific information developed by the project directly to the respective communities. OEA encourages respondents to consider partnering with public, private, and higher education sources for existing economic data or techniques for adjusting economic data to reflect local conditions.

3. List of military installations where regional economic data is sought—(OEA reserves the right to add to or change this list.)

Base name | State
Aberdeen Proving Ground | MD
Andrews Air Force Base | MD
Army Reserve Personnel Command St. Louis | MO
Brooks City Base | TX
Buckley Air Force Base Annex | CO
Cannon Air Force Base | NM
Charles E. Kelly Support Facility | PA
Deseret Chemical Depot | UT
Eglin Air Force Base | FL
Fort Belvoir | VA
Fort Benning | GA
Fort Bliss | TX
Fort Bragg/Pope Air Force Base | NC
Fort Carson | CO
Fort Drum | NY
Fort Gillem | GA
Fort Hood | TX
Fort Knox | KY
Fort Lee | VA
Fort Lewis/McChord Air Force Base | WA
Fort McPherson | GA
Fort Meade | MD
Fort Monmouth | NJ
Fort Monroe | VA
Fort Polk | LA
Fort Riley | KS
Fort Sam Houston | TX
Fort Sill | OK
Fort Stewart/Hunter Army Air Field | GA
Four Lakes Combat Support | WA
Galena Forward Operating Location | AK
Grand Forks Air Force Base | ND
Guam Military Complex | Guam
Kansas Army Ammunition Plant | KS
Marine Corps Base Camp Lejeune/Marine Corps Air Station New River/Marine Corps Air Station Cherry Point | NC
Marine Corps Base Quantico | VA
Naval Air Station Brunswick | ME
Naval Air Station Corpus Christi/Naval Station Ingleside | TX
Naval Air Station Willow Grove | PA
Naval Medical Center Bethesda | MD
Naval Station Pascagoula | MS
Naval Supply Corps School Athens | GA
Naval Support Activity Crane | IN
Naval Support Activity New Orleans | LA
Naval Weapons Station Seal Beach Concord Detachment | CA
Newport Chemical Depot | IN
Onizuka Air Force Station | CA
Red River Army Depot/Lone Star Army Ammunition Plant | TX
Redstone Arsenal | AL
Riverbank Army Ammunition Plant | CA
Rock Island Arsenal | IL
Selfridge Army Activity | MI
Sheppard Air Force Base | TX
Umatilla Army Depot | OR
Walter Reed Army Medical Center | DC
White Sands Missile Range | NM

II. Award Information

OEA is accepting proposals for Research and Technical Assistance award(s). Proposals should pertain to the identified areas of interest and will be rated on content (relevance and appropriateness to OEA's core functions, qualifications of project personnel, responsiveness to this announcement, and budget). OEA will invite successful respondent(s) to enter into a cooperative agreement under this announcement following its review of proposals and determination of eligible respondents which will occur subsequent to the 61st day following publication of this announcement.

III. Eligibility Information

Eligible respondents include any State or local government or private entity.

Eligible activities include research and technical assistance that pertains to activities related to the Defense Economic Adjustment Program aimed at assisting communities, businesses, and workers affected by Defense changes under 10 U.S.C. 2391 and Executive Order 12788, as amended. OEA specifically seeks proposals on:

• Research leading to the recurring presentation of current local economic indicator data for regions impacted by Defense downsizing or mission growth, based on the two elements identified in section I, subsection 1 of this announcement.

Proposals outside the identified areas of interest will not be considered.

IV. Application and Submission Information

The process requires each interested respondent to submit a proposal within the advertised solicitation period (sixty (60) days). OEA will hold a pre-application teleconference on Tuesday, January 27, 2009, at 3 p.m. EST in which all prospective respondents are invited to participate. OEA will make a brief presentation that reviews the goals and objectives of the RTA funding opportunity and will answer questions from the teleconference participants. For the teleconference number and passcode, interested parties may contact OEA as specified in section VII.

Each proposal submitted must include a cover or transmittal letter and accompanying text that shall consist of no more than 10 pages (single-sided), comprising:

• An abstract of the proposed research or technical assistance;

• A description of the scope of work required to address the challenge identified to include:

○ Specific economic indicators or types of indicators proposed to be obtained or developed to reflect near real-time economic conditions;

○ Methods for obtaining or developing the indicators;

○ The respondent's plan for engaging the impacted communities for each of the listed installations during development of the information and for evaluating the usefulness of information provided;

○ Methods for distributing the information to the impacted communities.

• A proposed budget and accompanying budget justification;

• Detailed description of the project team and their relevant experience;

• A project schedule for completion of the work;

• A point of contact.

Proposals must be provided to: Director, Office of Economic Adjustment, by mail to 400 Army Navy Drive, Suite 200, Arlington, VA 22202-4704, by facsimile to OEA at (703) 604-5460, or electronically to: rta.submit@wso.whs.mil.

V. Application Review Information

1. Selection Criteria—In reviewing proposals under this Notice, OEA considers and equally weights each of the following factors as a basis for inviting applications:

• Overall conformance with proposal requirements;

• Overall quality of proposed research;

• Overall expertise, experience, qualifications and ability of investigators; and

• Overall reasonableness of budgeted expenditures.

2. Review and Selection Process—OEA will assign a Project Manager and notify respondent(s) as soon as practicable following its review of proposals and determination of eligibility, to advise and assist with the preparation of an application. Applications will be reviewed for their completeness and accuracy, and, to the extent possible, an award notification will be issued within fourteen (14) days of the receipt of a complete application.

VI. Award Administration Information

1. Award Notices—To the extent possible, successful applicants will be notified within fourteen (14) days of the receipt at OEA of a complete application whether or not they will receive an award. Upon notification of an award, applicants will receive an award agreement, signed by the Director of OEA on behalf of DoD. Awardees must review the award agreement and indicate their consent to its terms by signing and returning it to OEA.

2. Administrative and National Policy Requirements—The Awardee, and any subawardee or consultant/contractor, operating under the terms of a grant or cooperative agreement shall comply with all Federal, State, and local laws including the following, where applicable: 32 CFR Part 33, “Uniform Administrative Requirements for Grants and Cooperative Agreements to State and Local Governments”; OMB Circulars A-87, “Cost Principles for State and Local Governments” and the revised A-133, “Audits of States, Local Governments and Non-Profit Organizations”; 32 CFR Part 25, “Government-wide Debarment and Suspension (Non-procurement)”; 32 CFR Part 26, “Drug-free Workplace”; 32 CFR, Part 32, Uniform Administrative Requirements for Grants and Agreements to Institutions of Higher Education, Hospitals, and other Non-Profit Organizations; 32 CFR, Part 34, Administrative Requirements for Grants and Agreements with For-Profit Organizations; OMB Circular A-21 Cost Principles for Educational Institutions; OMB Circular A-122, Cost Principles for Non Profit Organizations; 32 CFR Part 28, “New Restrictions on Lobbying (Grants)”; and 2 CFR Part 175, “Award Term for Trafficking in Persons.”

3. Reporting—OEA requires interim performance reports and one final performance report for each award. The performance reports will contain information on the following:

• A comparison of actual accomplishments to the objectives established for the reporting period;

• Reasons for slippage if established objectives were not met;

• Additional pertinent information when appropriate;

• A comparison of actual and projected expenditures for the period;

• The amount of awarded funds on hand at the beginning and end of the reporting period.

The final performance report must contain a summary of activities for the entire award period. All remaining required deliverables should be submitted with the final performance report. The final SF 269A, “Financial Status Report,” must be submitted to OEA within ninety (90) days after the end date of the award. Any funds actually advanced and not needed for award purposes shall be returned immediately to OEA.

OEA will provide a schedule for reporting periods and report due dates in the Award Agreement.

VII. Agency Contacts

For further information, to answer questions, or for help with problems, contact: Daniel Glasson, Project Manager, Office of Economic Adjustment, 400 Army Navy Drive, Suite 200, Arlington, VA 22202-4704, O: (703) 604-6020, F: (703) 604-5843, E-mail: daniel.glasson@wso.whs.mil.

VIII. Other Information

The Office of Economic Adjustment Internet address is http://www.oea.gov.

Dated: December 22, 2008.
Patricia L. Toppings,
OSD Federal Register Liaison Officer, Department of Defense.

[FR Doc. E8-31045 Filed 12-30-08; 8:45 am]

BILLING CODE 5001-06-P